DEPARTMENT OF DEFENSE

Office of the Secretary

[Docket ID DOD-2011-OS-0088]

Privacy Act of 1974; System of Records

AGENCY: Defense Information Systems Agency, Department of Defense.

ACTION: Notice to delete two systems of records.

SUMMARY: The Defense Information Systems Agency is deleting two systems of records notices in its existing inventory of record systems subject to the Privacy Act of 1974 (5 U.S.C. 552a), as amended.

DATES: This proposed action will be effective without further notice on September 9, 2011 unless comments are received which result in a contrary determination.

ADDRESSES: You may submit comments, identified by docket number and title, by any of the following methods:

• Federal Rulemaking Portal: http://www.regulations.gov.

Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette M. Weathers-Jenkins, Defense Information Systems Agency, 5600 Columbia Pike, Room 933-I, Falls Church, VA 22041-2705, or by phone at (703) 681-2103.

SUPPLEMENTARY INFORMATION: The Defense Information Systems Agency systems of records notices subject to the Privacy Act of 1974, (5 U.S.C. 552a), as amended, have been published in the Federal Register and are available from the address in FOR FURTHER INFORMATION CONTACT.

The Defense Information Systems Agency proposes to delete two systems of records notices from its inventory of record systems subject to the Privacy Act of 1974 (5 U.S.C. 552a), as amended. The proposed deletion is not within the purview of subsection (r) of the Privacy Act of 1974, (5 U.S.C. 552a), as amended, which requires the submission of a new or altered system report.

Dated: August 5, 2011.
Aaron Siegel,
Alternate OSD Federal Register Liaison Officer, Department of Defense.

K240.02

System name:

Sensitive Compartmented Info (SCI) Posn/Pers Accountability System (February 22, 1993, 58 FR 10562).

Reason:

DISA does not upload or input PII into the Sensitive Compartmented Info (SCI) Posn/Pers Accountability System also known as Scattered Castles. The PII within the database is covered by DPR 34, Defense Civilian Personnel Data System (April 21, 2006, 71 FR 20649).

K240.08

System name:

Security Violation Case File (February 22, 1993, 58 FR 10562).

Reason:

Records were destroyed in accordance with DISA's records management disposition and destruction requirements.

[FR Doc. 2011-20256 Filed 8-9-11; 8:45 am]

BILLING CODE 5001-06-P